DEPARTMENT OF JUSTICE

Antitrust Division

Notice Pursuant to the National Cooperative Research and Production Act of 1993—Open Mobile Alliance

Notice is hereby given that, on June 13, 2016, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, General Mobile Corporation, Taipei, TAIWAN; Micosa, Inc., Redwood City, CA; Movimento Group, Sunnyvale, CA; ONEm Communications Ltd.; London, UNITED KINGDOM; and Telekom Srbija a.d, Beograd, SERBIA; have been added as parties to this venture.

Also, Asurion LLC, San Mateo, CA; Augmate Corporation, New York, NEW YORK; Bell Mobility, Mississauga, Ontario, CANADA; Bluefish Technologies Europe A/S, Birkerod, DENMARK; Cambridge Silicon Radio Limited, Cambridge, UNITED KINGDOM; Deutsche Telekom AG, TMO, Bonn, GERMANY; EQUADIS S.A., Carouge, SWITZERLAND; Eway Miami Corp., Buenos Aires, ARGENTINA; Fidens Consulting, Southbury, CT; flo Data LTD, London, UNITED KINGDOM; Fraunhofer Gesellschaft e.V., Erlangen, GERMANY; Giesecke & Devrient GmbH, Munich, GERMANY; GS1 Canada, Toronto, Ontario, CANADA; GS1 France, Paris, FRANCE; GS1 Global Office, Brussels, BELGIUM; GS1 Hungary, Budapest, HUNGARY; GS1 Japan, Minato-ku, Tokyo, JAPAN; Hitachi, Ltd., Kawasaki-shi, JAPAN; Icare Institute, Sierre, SWITZERLAND; Images in Space Ltd., Takapuna, Auckland, NEW ZEALAND; Imagination Technologies Limited, Herts, UNITED KINGDOM; InterDigital Communications, Inc., King of Prussia, PA; KWISA, Gangnam-gu, Seoul, REPUBLIC OF KOREA; Mavenir Systems, Richardson, TX; Mformation Software Technologies, Inc., Edison, NJ; Netcomm Wireless Limited, Lane Cove, Sydney, AUSTRALIA; Openwave Messaging, Inc., Redwood City, CA; Qliktag Software, Inc., Newport Beach, CA; Reliance Jio Infocomm Limited, Navi Mumbai, Maharashtra, INDIA; Samsung Electronics, Suwon-city, Gyeonggi-do, REPUBLIC OF KOREA; SanDisk, Sunnyvale, CA; Saphety Level—Trusted Services S.A., Lisboa, PORTUGAL; Scanbuy, Inc., New York, NY; Skylink Design, Inc., Pleasanton, CA; Solaiemes, Madrid, SPAIN; Speago Oy, Helsinki, FINLAND; Symantec, Culver City, CA; Telekom Austria AG, Vienna, AUSTRIA; Tile Data Processing Inc., Montreal, Quebec, CANADA; W2bi, Inc., Union, NJ; and Zebra Technologies Corporation, Chicago, IL; have withdrawn as parties to this venture.

In addition, the following members have changed their names: Comverse to Xura Tel Aviv, ISRAEL; and Research Institute of Telecommunications Transmission, MII China to China Academy of Telecommunication Research of MIIT, Beijing, PEOPLE'S REPUBLIC OF CHINA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on July 6, 2015. A notice was published in the Federal Register pursuant to Section 6(b) of the Act on July 29, 2015 (80 FR 45234).

Patricia A. Brink,
Director of Civil Enforcement, Antitrust Division.

[FR Doc. 2016-16779 Filed 7-15-16; 8:45 am]

BILLING CODE P